DEPARTMENT OF RAILROAD RETIREMENT BOARD

Proposed Collection; Comment Request

SUMMARY: In accordance with the requirement of Section 3506 (c)(2)(A) of the Paperwork Reduction Act of 1995 which provides opportunity for public comment on new or revised data collections, the Railroad Retirement Board (RRB) publishes periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Lag Service Reports; OMB 3220-0005.

Under Section 9 of the Railroad Retirement Act (RRA) and Section 6 of the Railroad Unemployment Insurance Act (RUIA), railroad employers are required to submit reports of employee service and compensation to the RRB as needed for administering the RRA and RUIA. To pay benefits due on a deceased employee's earnings records or determine entitlement to, and amount of annuity applied for, it is necessary at time to obtain from railroad employers current (lag) service and compensation net yet reported to the RRB through the annual reporting process.

The reporting requirements are specified in 20 CFR 209.4 and 209.5. The RRB currently utilizes Form G-88, Employer's Supplemental Report of Service and Compensation, and Form AA-22, Notice of Death and Compensation, to obtain the required lag service and related information from railroad employers. The RRB proposes to obsolete Form G-88a. Form G-88a will be replaced by two forms, Form G-88a.1, Notice of Retirement of Verification of Date Last Worked, and Form G-88a.2, Notice of Retirement and Request for Service Needed for Eligibility. Form G-88a.1 will be sent by the RRB to railroad employers and used for the specific purpose of verifying information previously provided to the RRB regarding the date last worked by the employee. If the information is correct, the employer need not reply. If the information is incorrect, the employer is asked to provide corrected information. Form G-88a.2 will be used by the RRB to secure lag service and compensation information when it is needed to determine benefit eligibility. Both proposed forms will direct the railroad employers to fax the information directly to the RRB. It is expected that the proposed new forms will be easier for railroad employers to complete and will encourage a speedier reply, allowing the RRB to pay applicants in a more timely and accurate manner. A minor editorial change is proposed to Form AA-12.

The completion time for proposed forms G-88a.1 and G-88a.2 is estimated at 5 minutes per response. The estimated completion time for Form AA-22 remains at 6½ minutes per response. Completion is mandatory. The RRB estimates that approximately 800 Form AA-12's 2,300 Form G-88a.1's, and 1,200 G-88a.2's will be completed annually.

The renewal of this information collection will continue the RRB's initiative to consolidate information collections by major functional areas. The purpose of the initiative is to bring related collection instruments together in one collection, better manage the instruments, and prepare for the electronic collection of this information (A collection instrument can be an individual form, electronic collection, interview, or any other method that collects specific information from the public.)

As part of the OMB renewal process, the RRB proposes that this collection (OMB 3220-0005), Lag Service Reports, will be renamed Employer Reporting. Upon approval by OMB, and RRB intends to merge the following OMB approved collections into the collection by the Expected Expiration Date.

OMB collection No. | Collection title | RRB forms | Expected expiration date
3220-0008 | Railroad Service and Compensation Reports | BA 3a, BA-4 | 9/30/2001
3220-0012 | Employers Quarterly Report of Contributions Under the RUIA | DC-1 | 2/28/2003
3220-0014 | Employer Representatives' Status and Compensation Reports | DC-2, DC-2a | 6/30/2003
3220-0070 | Employer Service and Compensation Reports | UI-41, UI-41a | 9/30/2001
3220-0089 | Pension Plan Reports | G-88p, G-88r, G-88r.1 | 11/30/2002
3220-0097 | Pay Rate Report | UI-1e | 9/30/2001
3220-0132 | Gross Earnings Report | BA-11 | 1/31/2003
3220-0156 | Employers Deemed Service Month Questionnaire | GL-99 | 6/30/2003
3220-0173 | Railroad Separation Allowance or Severance Pay Report | BA-9 | 4/30/2002
3220-0175 | Sick Pay and Miscellaneous Payments Report | BA-10 | 9/30/2001
3220-0194 | Employee Home Address Report | BA-6a | 3/31/2001

Revisions to existing collection instruments and, occasionally, a new instrument related to this program function may be required during the three-year cycle of this information collection.

The RRB currently estimates the completion time for manual Form BA-3a, Annual Report of Creditable Compensation at 85 hours, the electronic version of Form BA-3a at 33.3 hours, Form BA-4, Report of Creditable Compensation Adjustments at 1 hour, Form DC-1, Employer's Quarterly Report of Contributions Under the RUIA at 25 minutes, Form DC-2a, Employee Representative's Report of Compensation at 15 minutes, Form UI-41, Supplemental Report of Service and Compensation at 8 minutes, Form UI-41a, Supplemental Report of Compensation at 8 minutes, Form G-88p, Employer's Supplemental Pension Report, at 8 minutes, G-88r, Request for Information About New or Revised Employer Pension Plan at 10 minutes, G-88r.1, Request for Additional Information About Employer Pension Plan in Case of Change of Employer Status or Termination of Plan at 10 minutes, Form UI-1E, Pay Report Information at 5 minutes, Manual Form BA-11, Report of Gross Earnings at 15 to 30 minutes, the electronic version of Form BA-11 at 5 hours, Form GL-99, Employer's Deemed Service Months Questionnaire at 2 minutes, Form BA-9, Report of Separation Allowance or Severance Pay at 75 minutes, Form BA-10, Report of Miscellaneous Compensation and Sick Pay at 55 minutes, and Form BA-6a, Employer Home Address Report at 30 minutes. Completion of each of the above forms is mandatory.

After the last information collection is merged and other necessary adjustments are made, the resultant information collection is expected to total approximately 55,400 annual burden hours. A justification for each action described above (merge collection, revised collection instrument, new collection instrument) will be provided to OMB with a correction Change Worksheet (OMB Form 83-C) at the time the action occurs. With the next renewal of this collection, the RRB will update the information collection package to account for the consolidation and other interim adjustments.

Additional Information or Comments

To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearnace Officer.

[FR Doc. 00-13215 Filed 5-25-00; 8:45am]

BILLING CODE 7905-01-M